DEPARTMENT OF HOMELAND SECURITY

Federal Emergency Management Agency

[Docket ID FEMA-2022-0002; Internal Agency Docket No. FEMA-B-2214]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
California: Santa Barbara | City of Goleta (21-09-1693P) | The Honorable Paula Perotte, Mayor, City of Goleta, 130 Cremona Drive, Suite B, Goleta, CA 93117 | Public Works Department, 130 Cremona Drive, Suite B, Goleta, CA 93117 | https://msc.fema.gov/portal/advanceSearch | May 23, 2022 | 060771
Colorado:
Arapahoe | City of Aurora (21-08-0331P) | The Honorable Mike Coffman, Mayor, City of Aurora, 15151 East Alameda Parkway, Aurora, CO 80012 | Public Works Department, 15151 East Alameda Parkway, Aurora, CO 80012 | https://msc.fema.gov/portal/advanceSearch | Apr. 29, 2022 | 080002
Arapahoe | City of Aurora (21-08-0828P) | The Honorable Mike Coffman, Mayor, City of Aurora, 15151 East Alameda Parkway, Aurora, CO 80012 | Public Works Department, 15151 East Alameda Parkway, Aurora, CO 80012 | https://msc.fema.gov/portal/advanceSearch | Apr. 8, 2022 | 080002
Arapahoe | Unincorporated areas of Arapahoe County (21-08-0331P) | The Honorable Nancy N. Sharpe, Chair, Arapahoe County Board of Commissioners, 5334 South Prince Street, Littleton, CO 80120 | Arapahoe County Public Works and Development Department, 6924 South Lima Street, Centennial, CO 80112 | https://msc.fema.gov/portal/advanceSearch | Apr. 29, 2022 | 080011
Routt | City of Steamboat Springs (21-08-0824P) | Mr. Gary Suiter, Manager, City of Steamboat Springs, P.O. Box 775088, Steamboat Springs, CO 80477 | City Hall, 137 10th Street, Steamboat Springs, CO 80477 | https://msc.fema.gov/portal/advanceSearch | Apr. 18, 2022 | 080159
Florida:
Monroe | Unincorporated areas of Monroe County (21-04-3823P) | The Honorable Michelle Coldiron, Commissioner, Monroe County Board of Commissioners, 25 Ships Way, Big Pine Key, FL 33043 | Monroe County Building Department, 2798 Overseas Highway, Suite 300, Marathon, FL 33050 | https://msc.fema.gov/portal/advanceSearch | May 16, 2022 | 125129
Sarasota | City of Sarasota (21-04-3619P) | The Honorable Erik Arroyo, Mayor, City of Sarasota, 1565 1st Street, Room 101, Sarasota, FL 34236 | Development Services Department, 1565 1st Street, Sarasota, FL 34236 | https://msc.fema.gov/portal/advanceSearch | Apr. 29, 2022 | 125150
Sarasota | Unincorporated areas of Sarasota County (21-04-6095P) | The Honorable Alan Maio, Chairman, Sarasota County Board of Commissioners, 1660 Ringling Boulevard, Sarasota, FL 34236 | Sarasota County Planning and Development Services Department, 1001 Sarasota Center Boulevard, Sarasota, FL 34240 | https://msc.fema.gov/portal/advanceSearch | May 13, 2022 | 125144
Georgia:
Bryan | Unincorporated areas of Bryan County (21-04-4473P) | The Honorable Carter Infinger, Chairman, Bryan County Board of Commissioners, 51 North Courthouse Street, Pembroke, GA 31321 | Bryan County Department of Engineering and Inspections, 51 North Courthouse Street, Pembroke, GA 31321 | https://msc.fema.gov/portal/advanceSearch | Apr. 29, 2022 | 130016
DeKalb | City of Brookhaven (21-04-2020P) | Mr. Christian Sigman, Manager, City of Brookhaven, 4362 Peachtree Road, Brookhaven, GA 30319 | City Hall, 4362 Peachtree Road, Brookhaven, GA 30319 | https://msc.fema.gov/portal/advanceSearch | Mar. 18, 2022 | 135175
DeKalb | Unincorporated areas of DeKalb County (21-04-2020P) | The Honorable Michael L. Thurmond, Chief Executive Officer, DeKalb County, 1300 Commerce Drive, Decatur, GA 30030 | DeKalb County Public Works Department, Roads and Drainage Division, 727 Camp Road, Decatur, GA 30032 | https://msc.fema.gov/portal/advanceSearch | Mar. 18, 2022 | 130065
Tift | City of Tifton (21-04-5139X) | The Honorable Julie Smith, Mayor, City of Tifton, 130 1st Street East, Tifton, GA 31794 | City Hall, 130 1st Street East, Tifton, GA 31794 | https://msc.fema.gov/portal/advanceSearch | Mar. 10, 2022 | 130171
Tift | Unincorporated areas of Tift County (21-04-5139X) | Mr. Jim Carter, Manager, Tift County, Board of Commissioners, 225 North Tift Avenue, Room 204, Tifton, GA 31794 | Tift County Building Department, 225 North Tift Avenue, Tifton, GA 31794 | https://msc.fema.gov/portal/advanceSearch | Mar. 10, 2022 | 130404
Kentucky: Pike | Unincorporated areas of Pike County (21-04-4538P) | The Honorable Ray S. Jones, Judge Executive, Pike County, 146 Main Street, Pikeville, KY 41501 | Pike County Court House, 146 Main Street, Pikeville, KY 41501 | https://msc.fema.gov/portal/advanceSearch | May 16, 2022 | 210298
Louisiana: East Baton Rouge | City of Baton Rouge (21-06-3439P) | The Honorable Sharon Weston L. Broome, Mayor, City of Baton Rouge, P.O. Box 1471, Baton Rouge, LA 70821 | Department of Development, 1100 Laurel Street, Room 200, Baton Rouge, LA 70802 | https://msc.fema.gov/portal/advanceSearch | May 5, 2022 | 220159
Maryland: Frederick | Unincorporated areas of Frederick County (21-03-0980P) | The Honorable Jan H. Gardner, Frederick County Executive, 12 East Church Street, Frederick, MD 21701 | Frederick County Division of Planning and Permitting, 30 North Market Street, Frederick, MD 21701 | https://msc.fema.gov/portal/advanceSearch | Apr. 11, 2022 | 240027
Massachusetts: Essex | Town of Nahant (21-01-1078P) | The Honorable Josh Antrim, Chairman, Town of Nahant Board of Selectmen, 334 Nahant Road, Nahant, MA 01908 | Public Works Department, 334 Nahant Road, Nahant, MA 01908 | https://msc.fema.gov/portal/advanceSearch | Apr. 13, 2022 | 250095
Montana:
Gallatin | Unincorporated areas of Gallatin County (21-08-1190P) | The Honorable Scott MacFarlane, Chairman, Gallatin County Commission, 311 West Main Street, Room 306, Bozeman, MT 59715 | Gallatin County Department of Planning and Community Development, 311 West Main Street, Room 108, Bozeman, MT 59715 | https://msc.fema.gov/portal/advanceSearch | May. 6, 2022 | 300027
Missoula | City of Missoula (21-08-0878P) | The Honorable John Engen, Mayor, City of Missoula, 435 Ryman Street, Missoula, MT 59802 | City Hall, 435 Ryman Street, Missoula, MT 59802 | https://msc.fema.gov/portal/advanceSearch | Apr. 27, 2022 | 300049
Missoula | Unincorporated areas of Missoula County (21-08-0878P) | The Honorable David Strohmaier, Chairman, Missoula County Board of Commissioners, 199 West Pine Street, Missoula, MT 59802 | Missoula County Community and Planning Services Department, 127 East Main Street, Missoula, MT 59802 | https://msc.fema.gov/portal/advanceSearch | Apr. 27, 2022 | 300048
North Carolina:
Johnston | Unincorporated areas of Johnston County (20-04-5908P) | The Honorable Chad Stewart, Chairman, Johnston County Board of Commissioners, P.O. Box 1049, Smithfield, NC 27577 | Johnston County Planning Department, 309 East Market Street, Clayton, NC 27520 | https://msc.fema.gov/portal/advanceSearch | Feb. 17, 2022 | 370138
Orange | Unincorporated areas of Orange County (21-04-0006P) | The Honorable Renee Price, Chair, Orange County Board of Commissioners, P.O. Box 1303, Hillsborough, NC 27278 | Orange County Planning, Department, 131 West Margaret Lane, Hillsborough, NC 27278 | https://msc.fema.gov/portal/advanceSearch | Feb 10, 2022 | 370342
Pender | Town of Burgaw (20-04-3993P) | The Honorable Kenneth Cowan, Mayor, Town of Burgaw, 109 North Walker Street, Burgaw, NC 28425 | Town Hall, 109 North Walker Street, Burgaw, NC 28425 | https://msc.fema.gov/portal/advanceSearch | Feb. 11, 2022 | 370483
Union | Unincorporated areas of Union County (21-04-0276P) | The Honorable Richard Helms, Chairman, Union County Board of Commissioners, 500 North Main Street, Suite 918, Monroe, NC 28112 | Union County Planning, Department, 500 North Main Street, Suite 70, Monroe, NC 28112 | https://msc.fema.gov/portal/advanceSearch | Feb 18, 2022 | 370234
Tennessee:
Shelby | City of Millington (21-04-1321P) | The Honorable Terry Jones, Mayor, City of Millington, 4715 Oak Harbour Trace, Millington, TN 38053 | Planning and Economic Development Department, 7930 Nelson Road, Millington, TN 38053 | https://msc.fema.gov/portal/advanceSearch | Apr. 15, 2022 | 470178
Sumner | City of Gallatin (21-04-1323P) | The Honorable Paige Brown, Mayor, City of Gallatin, 132 West Main Street, Gallatin, TN 37066 | City Hall, 132 West Main Street, Gallatin, TN 37066 | https://msc.fema.gov/portal/advanceSearch | Apr. 22, 2022 | 470185
Sumner | Unincorporated areas of Sumner County (21-04-1323P) | The Honorable Anthony Holt, Mayor, Sumner County, 355 North Belvedere Drive, Gallatin, TN 37066 | Sumner County Building Department, 355 North Belvedere Drive, Gallatin, TN 37066 | https://msc.fema.gov/portal/advanceSearch | Apr. 22, 2022 | 470349
Texas:
Bexar | City of Alamo Heights (21-06-1034P) | The Honorable Bobby Rosenthal, Mayor, City of Alamo Heights, 6116 Broadway Street Alamo Heights, TX 78209 | Community Development Services Department, 6116 Broadway Street Alamo Heights, TX 78209 | https://msc.fema.gov/portal/advanceSearch | Apr. 4, 2022 | 480036
Bexar | Unincorporated areas of Bexar County (21-06-0768P) | The Honorable Nelson W. Wolff, Bexar County Judge, 101 West Nueva Street, 10th Floor, San Antonio, TX 78205 | Bexar County Public Works Department, 1948 Probandt Street, San Antonio, TX 78214 | https://msc.fema.gov/portal/advanceSearch | Mar. 21, 2022 | 480035
Harris | Unincorporated areas of Harris County (19-06-2368P) | The Honorable Lina Hidalgo, Harris County Judge, 1001 Preston Street, Suite 911, Houston, TX 77002 | Harris County Permit Office, 10555 Northwest Freeway, Suite 120, Houston, TX 77092 | https://msc.fema.gov/portal/advanceSearch | Apr. 18, 2022 | 480287
Kendall | Unincorporated areas of Kendall County (21-06-1445P) | The Honorable Darrel L. Lux, Kendall County Judge, 201 East San Antonio Avenue, Suite 122, Boerne, TX 78006 | Kendall County Engineer and Development Management Office, 201 East San Antonio Avenue, Suite 101, Boerne, TX 78006 | https://msc.fema.gov/portal/advanceSearch | Mar. 16, 2022 | 480417
Montgomery | Unincorporated areas of Montgomery County (19-06-2368P) | The Honorable Mark Keough, Montgomery County Judge, 501 North Thompson Street, Suite 401, Conroe, TX 77301 | Montgomery County Engineering Department, 501 North Thompson Street, Suite 103, Conroe, TX 77301 | https://msc.fema.gov/portal/advanceSearch | Apr. 18, 2022 | 480483
Webb | City of Laredo (21-06-1239P) | The Honorable Pete Saenz, Mayor, City of Laredo, 1110 Houston Street, 3rd Floor, Laredo, TX 78040 | Planning and Zoning Department, 1413 Houston Street, Laredo, TX 78040 | https://msc.fema.gov/portal/advanceSearch | Apr. 8, 2022 | 480651

[FR Doc. 2022-03122 Filed 2-11-22; 8:45 am]

BILLING CODE 9110-12-P